DEPARTMENT OF COMMERCE

International Trade Administration

[A-580-892]

Certain Cold-Drawn Mechanical Tubing of Carbon and Alloy Steel From the Republic of Korea: Rescission of Antidumping Duty Administrative Review; 2017-2019

AGENCY: Enforcement and Compliance, International Trade Administration, Department of Commerce.

SUMMARY: The Department of Commerce (Commerce) is rescinding the administrative review of the antidumping duty (AD) order on certain cold-drawn mechanical tubing of carbon and alloy steel (CDMT) from the Republic of Korea (Korea) for the period of review (POR) November 22, 2017, through May 31, 2019, based on the timely withdrawal of the request for review.

DATES: Applicable February 27, 2020.

FOR FURTHER INFORMATION CONTACT: Nathan James, AD/CVD Operations, Office V, Enforcement and Compliance, International Trade Administration, U.S. Department of Commerce, 1401 Constitution Avenue NW, Washington, DC 20230; telephone: (202) 482-5305.

SUPPLEMENTARY INFORMATION:

Background

On June 3, 2019, Commerce published a notice of opportunity to request an administrative review of the AD order on CDMT from Korea for the POR November 22, 2017 through May 31, 2019.¹ ArcelorMittal Tubular Products LLC, Michigan Seamless Tube, LLC, PTC Alliance Corp., and Webco Industries, Inc. (collectively, the petitioners), timely filed a request for administrative review of Dong A Steel Co., Ltd., Husteel Co., Ltd., Nexteel Co., Ltd., Sang Shin Ind. Co., Ltd., Seah Steel Corporation, Sic Tube, Tgs Pipe Co., Ltd., Tpc Co., Ltd., and Yulchon Co., Ltd., in accordance with section 751(a) of the Tariff Act of 1930, as amended (the Act), and 19 CFR 351.213(b).²

¹ See Antidumping or Countervailing Duty Order, Finding, or Suspended Investigation; Opportunity to Request Administrative Review, 84 FR 25521 (June 3, 2019).

² See Petitioners' Letter, “Cold-Drawn Mechanical Tubing from the Republic of Korea—Domestic Industry's Request for First Administrative Review,” dated July 1, 2019.

On July 29, 2019, pursuant to this request, and in accordance with 19 CFR 351.221(c)(1)(i), Commerce published a notice initiating an administrative review of the antidumping order on CDMT from Korea.³ On October 8, 2019, the petitioners withdrew their request for an administrative review with respect to all of the companies for which they had requested a review.⁴

³ See Initiation of Antidumping and Countervailing Duty Administrative Reviews, 84 FR 36572 (July 29, 2019).

⁴ See Petitioners' Letter, “Cold-Drawn Mechanical Tubing from the Republic of Korea—Domestic Industry's Withdrawal of Request for First Administrative Review,” dated October 8, 2019.

Rescission of Review

Pursuant to 19 CFR 351.213(d)(1), Commerce will rescind an administrative review, in whole or in part, if the party or parties that requested a review withdraws the request within 90 days of the publication date of the notice of initiation of the requested review. The petitioners withdrew their request within 90 days of the publication date of the notice of initiation. No other parties requested an administrative review of the order. Therefore, in accordance with 19 CFR 351.213(d)(1), we are rescinding this review in its entirety.

Assessment

Commerce will instruct U.S. Customs and Border Protection (CBP) to assess antidumping duties on all appropriate entries of CDMT from Korea. Antidumping duties shall be assessed at rates equal to the cash deposit of estimated antidumping duties required at the time of entry, or withdrawal from warehouse, for consumption in accordance with 19 CFR 351.212(c)(1)(i). Commerce intends to issue appropriate assessment instructions to CBP 15 days after the date of publication of this notice in the Federal Register.

Notification to Importers

This notice serves as a reminder to importers of their responsibility under 19 CFR 351.42(f)(2) to file a certificate regarding the reimbursement of AD duties prior to liquidation of the relevant entries during this review period. Failure to comply with this requirement could result in Commerce's presumption that reimbursement of AD duties occurred and the subsequent assessment of doubled AD duties.

Notification Regarding Administrative Protective Orders

This notice also serves as a reminder to all parties subject to administrative protective order (APO) of their responsibility concerning the disposition of proprietary information disclosed under APO in accordance with 19 CFR 351.305. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: February 24, 2020.
James Maeder,
Deputy Assistant Secretary for Antidumping and Countervailing Duty Operations.

[FR Doc. 2020-04001 Filed 2-26-20; 8:45 am]

BILLING CODE 3510-DS-P